NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities (NEH) will hold thirty-two meetings, by videoconference, of the Humanities Panel, a federal advisory committee, during August 2022. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: August 1, 2022

This video meeting will discuss applications on the topics of Rhetoric, Communication, Media Studies, and American Studies, for the Fellowships program, submitted to the Division of Research Programs.

2. Date: August 1, 2022

This video meeting will discuss applications on the topics of Africa, Middle East, and Ancient World, for the Fellowships program, submitted to the Division of Research Programs.

3. Date: August 1, 2022

This video meeting will discuss applications for the Humanities Initiatives at Historically Black Colleges and Universities program, submitted to the Division of Education Programs.

4. Date: August 2, 2022

This video meeting will discuss applications for the Humanities Initiatives at Colleges and Universities program, submitted to the Division of Education Programs.

5. Date: August 2, 2022

This video meeting will discuss applications on the topics of Medieval and Early Modern Studies and Religious Studies, for the Fellowships program, submitted to the Division of Research Programs.

6. Date: August 2, 2022

This video meeting will discuss applications on the topics of Asian Studies and Religious Studies, for the Fellowships program, submitted to the Division of Research Programs.

7. Date: August 2, 2022

This video meeting will discuss applications on the topics of Collections Care and Preservation Training, for the Preservation and Access Education and Training program, submitted to the Division of Preservation and Access.

8. Date: August 3, 2022

This video meeting will discuss applications on the topic of Philosophy, for the Fellowships program, submitted to the Division of Research Programs.

9. Date: August 3, 2022

This video meeting will discuss applications for the Humanities Initiatives at Colleges and Universities program, submitted to the Division of Education Programs.

10. Date: August 4, 2022

This video meeting will discuss applications for the Humanities Initiatives at Hispanic-Serving Institutions program, submitted to the Division of Education Programs.

11. Date: August 4, 2022

This video meeting will discuss applications on the topics of European History, Political Science, and Jurisprudence, for the Fellowships program, submitted to the Division of Research Programs.

12. Date: August 4, 2022

This video meeting will discuss applications on the topic of Literature, for the Fellowships program, submitted to the Division of Research Programs.

13. Date: August 4, 2022

This video meeting will discuss applications on the topics of Imaging, Media, and At-Risk Collections, for the Preservation and Access Education and Training program, submitted to the Division of Preservation and Access.

14. Date: August 5, 2022

This video meeting will discuss applications for the Humanities Initiatives at Colleges and Universities program, submitted to the Division of Education Programs.

15. Date: August 5, 2022

This video meeting will discuss applications on the topics of History, Health, Science, and Environment, for the Fellowships program, submitted to the Division of Research Programs.

16. Date: August 8, 2022

This video meeting will discuss applications for the Humanities Initiatives at Colleges and Universities program, submitted to the Division of Education Programs.

17. Date: August 9, 2022

This video meeting will discuss applications for the Humanities Initiatives at Tribal Colleges and Universities program, submitted to the Division of Education Programs.

18. Date: August 9, 2022

This video meeting will discuss applications for the Humanities Initiatives at Community Colleges program, submitted to the Division of Education Programs.

19. Date: August 10, 2022

This video meeting will discuss applications for the Humanities Initiatives at Hispanic-Serving Institutions program, submitted to the Division of Education Programs.

20. Date: August 11, 2022

This video meeting will discuss applications for the Humanities Initiatives at Hispanic-Serving Institutions program, submitted to the Division of Education Programs.

21. Date: August 11, 2022

This video meeting will discuss applications for the Humanities Initiatives at Colleges and Universities program, submitted to the Division of Education Programs.

22. Date: August 12, 2022

This video meeting will discuss applications for the Humanities Initiatives at Community Colleges program, submitted to the Division of Education Programs.

23. Date: August 15, 2022

This video meeting will discuss applications for the Humanities Initiatives at Colleges and Universities program, submitted to the Division of Education Programs.

24. Date: August 17, 2022

This video meeting will discuss applications on the topic of Conservation Science, for the Research and Development program, submitted to the Division of Preservation and Access.

25. Date: August 24, 2022

This video meeting will discuss applications on the topics of Anthropology and Indigenous Practices, for the Research and Development program, submitted to the Division of Preservation and Access.

26. Date: August 25, 2022

This video meeting will discuss applications on the topics of Digital Archives and Media Preservation, for the Research and Development program, submitted to the Division of Preservation and Access.

27. Date: August 25, 2022

This video meeting will discuss applications on the topics of Arts and Media Studies, for the Digital Humanities Advancement Grants program, submitted to the Office of Digital Humanities.

28. Date: August 29, 2022

This video meeting will discuss applications on the topic of Pedagogy, for the Digital Humanities Advancement Grants program, submitted to the Office of Digital Humanities.

29. Date: August 30, 2022

This video meeting will discuss applications on the topic of Scholarly Communications, for the Digital Humanities Advancement Grants program, submitted to the Office of Digital Humanities.

30. Date: August 30, 2022

This video meeting will discuss applications on the topics of Arts and Culture, for the Digital Projects for the Public: Prototyping Grants program, submitted to the Division of Public Programs.

31. Date: August 31, 2022

This video meeting will discuss applications on the topic of US History, for the Digital Projects for the Public: Prototyping Grants program, submitted to the Division of Public Programs.

32. Date: August 31, 2022

This video meeting will discuss applications on the topics of Collections and Access, for the Digital Humanities Advancement Grants program, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: July 8, 2022.
Samuel Roth,
Attorney-Advisor, National Endowment for the Humanities.

[FR Doc. 2022-14996 Filed 7-13-22; 8:45 am]

BILLING CODE 7536-01-P